SUSQUEHANNA RIVER BASIN COMMISSION

Notice of Public Hearing and Commission Meeting

AGENCY: Susquehanna River Basin Commission.

ACTION: Notice of public hearing and Commission meeting.

SUMMARY: The Susquehanna River Basin Commission will hold a public hearing as part of its regular business meeting beginning at 8:30 a.m. on September 10, 2009, in North East, Md. At the public hearing, the Commission will consider: (1) Action on certain water resources projects; (2) the rescission of five previous docket approvals; (3) enforcement actions against two projects; and (4) one request for an administrative hearing on a project previously approved by the Commission. Details concerning the matters to be addressed at the public hearing and business meeting are contained in the Supplementary Information section of this notice.

DATES: September 10, 2009.

ADDRESSES: Chesapeake Lodge Hotel & Conference Center at Sandy Cove Ministries, 60 Sandy Cove Road, North East, MD.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net.

SUPPLEMENTARY INFORMATION: In addition to the public hearing and its related action items identified below, the business meeting also includes actions or presentations on the following items: (1) Hydrologic conditions of the basin; (2) the Maryland Lt. Governor's Water Summit Update; (3) panel discussion on the Chesapeake Bay and Ecosystems as SRBC “Priority Management Areas”; (4) the William Jeanes award; (5) final rulemaking regarding federal licensing/re-licensing of projects and other revisions; (6) an Access to Records Policy; and (7) ratification/approval of grants/contracts. The Commission will also hear a Legal Counsel's report.

Public Hearing—Compliance Actions

1. Project Sponsor: Allegheny Energy Supply Company, LLC and UGI Development Company. Project Facility: Hunlock Power Station, Unit 4, Hunlock Township, Luzerne County, PA.

2. Project Sponsor: Chief Oil & Gas LLC. Project Facility: Phelps 1H Well, Lathrop Township, Susquehanna County, PA.

Public Hearing—Projects Scheduled for Action

1. Project Sponsor and Facility: ALTA Operating Company, LLC (Berkowitz Pond), Forest Lake Township, Susquehanna County, PA. Application for surface water withdrawal of up to 0.249 mgd.

2. Project Sponsor: Antrim Treatment Trust. Project Facility: Antrim No. 1, Duncan Township, Tioga County, PA. Application for surface water withdrawal of up to 0.720 mgd.

3. Project Sponsor and Facility: Charles Header-Laurel Springs Development, Barry Township, Schuylkill County, PA. Application for groundwater withdrawal of 0.099 mgd from Laurel Springs 1 and 2.

4. Project Sponsor and Facility: Charles Header-Laurel Springs Development, Barry Township, Schuylkill County, PA. Application for consumptive water use of up to 0.099 mgd.

5. Project Sponsor: Community Refuse Service, Inc. Project Facility: Cumberland County Landfill, Hopewell and North Newton Townships, Cumberland County, PA. Modification to increase consumptive water use from a peak day of 0.090 mgd up to 0.140 mgd (Docket No. 20050907).

6. Project Sponsor: Community Refuse Service, Inc. Project Facility: Cumberland County Landfill, Hopewell and North Newton Townships, Cumberland County, PA. Application for groundwater withdrawal of 0.053 mgd from eight wells for consumptive water use.

7. Project Sponsor and Facility: EXCO-North Coast Energy, Inc. (Tunkhannock Creek—Dixon), Tunkhannock Township, Wyoming County, PA. Application for surface water withdrawal of up to 0.999 mgd.

8. Project Sponsor and Facility: Fortuna Energy Inc. (Towanda Creek—Franklin Township Volunteer Fire Department), Franklin Township, Bradford County, PA. Application for surface water withdrawal of up to 2.000 mgd.

9. Project Sponsor and Facility: J-W Operating Company (Abandoned Mine Pool—Unnamed Tributary to Finley Run), Shippen Township, Cameron County, PA. Application for surface water withdrawal of up to 0.090 mgd.

10. Project Sponsor and Facility: LHP Management, LLC (Fishing Creek—Clinton Country Club), Bald Eagle Township, Clinton County, PA. Application for surface water withdrawal of up to 5.000 mgd.

11. Project Sponsor and Facility: Mansfield Borough Municipal Authority, Richmond Township, Tioga County, PA. Application for groundwater withdrawal of up to 0.079 mgd from Well 3.

12. Project Sponsor and Facility: Seneca Resources Corporation (Arnot No. 5), Bloss Township, Tioga County, PA. Application for surface water withdrawal of up to 0.499 mgd.

13. Project Sponsor and Facility: Southwestern Energy Company (Cold Creek—Giroux), Herrick Township, Bradford County, PA. Application for surface water withdrawal of up to 0.249 mgd.

14. Project Sponsor and Facility: Southwestern Energy Company (Mill Creek—Kennedy), Stevens Township, Bradford County, PA. Application for surface water withdrawal of up to 0.249 mgd.

15. Project Sponsor and Facility: Southwestern Energy Company (Ross Creek—Billings), Stevens Township, Bradford County, PA. Application for surface water withdrawal of up to 0.249 mgd.

16. Project Sponsor and Facility: Southwestern Energy Company (Sutton Big Pond), Herrick Township, Bradford County, PA. Application for surface water withdrawal of up to 5.000 mgd.

17. Project Sponsor and Facility: Southwestern Energy Company (Tunkhannock Creek—Price), Gibson Township, Susquehanna County, PA. Application for surface water withdrawal of up to 0.380 mgd.

18. Project Sponsor and Facility: Southwestern Energy Company (Wyalusing Creek—Ferguson), Wyalusing Township, Bradford County, PA. Application for surface water withdrawal of up to 1.500 mgd.

19. Project Sponsor and Facility: Southwestern Energy Company (Wyalusing Creek—Campbell), Stevens Township, Bradford County, PA. Application for surface water withdrawal of up to 1.500 mgd.

20. Project Sponsor: UGI Development Company. Project Facility: Hunlock Power Station, Hunlock Township, Luzerne County, PA. Application for surface water withdrawal from the Susquehanna River of up to 55.050 mgd.

21. Project Sponsor: UGI Development Company. Project Facility: Hunlock Power Station, Hunlock Township, Luzerne County, PA. Application for consumptive water use of up to 0.870 mgd.

22. Project Sponsor and Facility: Ultra Resources, Inc. (Elk Run), Gaines Township, Tioga County, PA. Corrective modification to passby flow condition (Docket No. 20090631).

23. Project Sponsor: United Water Resources. Project Facility: United Water PA-Harrisburg Operation, Newberry Township, York County, PA. Application for groundwater withdrawal of up to 0.172 mgd from Paddletown Well.

Public Hearing—Projects Scheduled for Rescission Action

1. Project Sponsor and Facility: Chesapeake Appalachia, LLC (Susquehanna River) (Docket No. 20080903), Town of Tioga, Tioga County, N.Y.

2. Project Sponsor and Facility: Chesapeake Appalachia, LLC (Susquehanna River) (Docket No. 20080906), Athens Township, Bradford County, PA.

3. Project Sponsor and Facility: Chesapeake Appalachia, LLC (Susquehanna River) (Docket No. 20080907), Oakland Township, Susquehanna County, PA.

4. Project Sponsor and Facility: East Resources, Inc. (Tioga River) (Docket No. 20080609), Mansfield, Richmond Township, Tioga County, PA.

5. Project Sponsor and Facility: Montrose Country Club (Docket No. 20020603), Bridgewater Township, Susquehanna County, PA.

Public Hearing—Request for Administrative Hearing

1. Petitioner Delta Borough, York County, Pennsylvania; RE: Delta Borough Public Water Supply Well No. DR-2; Docket No. 20090315, approved March 12, 2009.

Opportunity to Appear and Comment

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Stephanie L. Richardson, Secretary to the Commission, e-mail: srichardson@srbc.net. Comments mailed or electronically submitted must be received prior to September 4, 2009, to be considered.

Authority: Public Law 91-575, 84 Stat. 1509 et seq., 18 CFR parts 806, 807, and 808

Dated: August 11, 2009.
Thomas W. Beauduy,
Deputy Director.

[FR Doc. E9-20071 Filed 8-19-09; 8:45 am]

BILLING CODE 7040-01-P